DEPARTMENT OF HOMELAND SECURITY

Coast Guard

46 CFR Parts 97 and 148

[Docket No. USCG-2009-0091]

RIN 1625-AB47

Bulk Solid Hazardous Materials: Harmonization With the International Maritime Solid Bulk Cargoes (IMSBC) Code; Correction

AGENCY: Coast Guard, DHS.

ACTION: Notice of proposed rulemaking; correction.

SUMMARY: This document corrects the preamble to a proposed rule published in the Federal Register on June 17, 2010, entitled “Bulk Solid Hazardous Materials: Harmonization With the International Maritime Solid Bulk Cargoes (IMSBC) Code.” This correction provides correct information with regard to the preliminary environmental analysis checklist.

FOR FURTHER INFORMATION CONTACT: If you have questions on this proposed rule, call or e-mail Richard Bornhorst, Office of Operating and Environmental Standards, Hazardous Materials Standards Division (CG-5223), Coast Guard, telephone 202-372-1426, e-mail Richard.C.Bornhorst@uscg.mil. If you have questions on viewing or submitting material to the docket, call Renee V. Wright, Program Manager, Docket Operations, telephone 202-366-9826.

SUPPLEMENTARY INFORMATION: The Coast Guard is correcting a portion of the preamble to the proposed rule discussing the preliminary environmental analysis checklist. The preamble incorrectly refers to section 2.B.2 Figure 2-1, paragraphs 34(c), (d), and (e), of Commandant Instruction M16475.lD. The correct reference is to section 2.B.2 Figure 2-1, paragraphs 34(a) and (d) of the Instruction.

Correction

In the proposed rule “Bulk Solid Hazardous Materials: Harmonization With the International Maritime Solid Bulk Cargoes (IMSBC) Code,” which published in the June 17, 2010, issue of the Federal Register, make the following correction in the Supplementary Information section. In section VII.M., correct the paragraph following “M. Environment” to read as follows:

“We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under the “Public Participation and Request for Comments” section of this preamble. This rule involves regulations that are editorial or procedural and the equipping of vessels, and falls under section 2.B.2. Figure 2-1, paragraphs 34(a) and (d) of Commandant Instruction M16475.lD. We seek any comments or information that may lead to the discovery of a significant environmental impact from this proposed rule.”

Dated: June 15, 2010.
Steve G. Venckus,
Chief, Office of Regulations and Administrative Law, United States Coast Guard.

[FR Doc. 2010-14737 Filed 6-16-10; 11:15 am]

BILLING CODE 9110-04-P